DEPARTMENT OF HEALTH AND HUMAN SERVICES

Centers for Disease Control and Prevention

[Docket No. CDC-2017-0089]

Proposed Centers for Disease Control and Prevention Guideline on the Diagnosis and Management of Pediatric Mild Traumatic Brain Injury

AGENCY: Centers for Disease Control and Prevention (CDC), Department of Health and Human Services (HHS).

ACTION: Notice of Availability; request for comment.

SUMMARY: The Centers for Disease Control and Prevention (CDC), located within the Department of Health and Human Services (HHS) announces the opening of a docket to obtain public comment on two documents; a Systematic Review of the evidence on the diagnosis, prognosis, and management of pediatric mild traumatic brain injury (TBI), and an evidence-based Guideline that offers clinical recommendations for healthcare providers. Public comments will be considered and will inform revisions to the systematic review and guideline.

DATES: Written comments must be received on or before November 28, 2017.

ADDRESSES: You may submit comments, identified by Docket No. CDC-2017-0089, by any of the following methods:

• Federal eRulemaking Portal: http://www.regulations.gov. Follow the instructions for submitting comments.

• Mail: National Center for Injury Prevention and Control, Centers for Disease Control and Prevention, Attn: Docket No. CDC-2017-0089, 4770 Buford Highway NE., Mailstop F-63, Atlanta, Georgia 30341.

Instructions: All submissions received must include the agency name and docket number or RIN. All relevant public comments received will be posted without change to http://www.regulations.gov, including any personal or proprietary information provided. To download an electronic version of the Guideline and appendices, go to http://www.regulations.gov.

FOR FURTHER INFORMATION CONTACT: Arlene Greenspan, National Center for Injury Prevention and Control, Centers for Disease Control and Prevention, 4770 Buford Highway NE., Mailstop F-63, Atlanta, Georgia 30341; Telephone: (770) 488-4696.

SUPPLEMENTARY INFORMATION: The Pediatric Mild Traumatic Brain Injury Workgroup, a workgroup of the National Center for Injury Prevention and Control (NCIPC) Board of Scientific Counselors (BSC), conducted a systematic review of the evidence and drafted the clinical recommendations. The NCIPC/BSC is a federal advisory committee comprised of leading experts in the field of injury and violence prevention that makes recommendations to the HHS Secretary, the CDC Director, and the NCIPC Director. The workgroup consists of subject matter experts in neurosurgery, pediatrics, emergency medicine, nursing, neurology, rehabilitation, neuroimaging, internal and family medicine, sports medicine, and school health. The systematic review and clinical recommendations drafted by the Pediatric Mild Traumatic Brain Injury Workgroup served as the primary foundation for the CDC Systematic Review and CDC Guideline.

Supporting and Related Material in the Docket

The docket contains the following supporting and related materials to help inform public comment: the Systematic Review including data tables, and the Guideline including the key recommendations. The document, Diagnosis and Management of Mild Traumatic Brain Injury Among Children: A Systematic Review, summarizes findings from 25 years of research on the diagnosis, prognosis, and management of pediatric mild TBI. In this review, evidence is summarized for six clinical questions using a rigorous evidence rating methodology. The draft CDC Guideline on the Diagnosis and Management of Mild Traumatic Brain Injury Among Children focuses on diagnosis and management of acute mild traumatic brain injury (TBI) among children and adolescents (age 18 and under). The Guideline is designed for use by acute care and primary care providers who diagnose and manage patients with mild TBI resulting from both unintentional and intentional injuries. The recommendations contained in the Guideline were developed based on findings from the Systematic Review. This Guideline is not a federal rule or regulation; adherence to the Guideline will be voluntary.

Dated: September 26, 2017.
Sandra Cashman,
Executive Secretary, Centers for Disease Control and Prevention.

[FR Doc. 2017-20903 Filed 9-28-17; 8:45 am]

BILLING CODE 4163-18-P